DEPARTMENT OF ENERGY

Federal Energy Regulatory Commission

[Docket No. ER97-1397-010, et al.]

South Jersey Energy Company, et al.; Electric Rate and Corporate Filings

March 11, 2004.

The following filings have been made with the Commission. The filings are listed in ascending order within each docket classification.

1. South Jersey Energy Company

[Docket No. ER97-1397-010]

Take notice that on March 8, 2004, South Jersey Energy Company (SJE) tendered for filing an updated market analysis in compliance with the Commission's order, issued February 28, 1997, in Docket No. ER97-1397-000.

Comment Date: March 29, 2004.

2. Calpine Oneta Power, L.P.

[Docket No. ER04-279-001]

Take notice that on March 8, 2004, Calpine Oneta Power, L.P. (Oneta) tendered for filing, under section 205 of the Federal Power Act and in compliance with the Order issued February 6, 2004, in Docket No. ER04-0279-000, 106 FERC ¶61,107 (2004), a revised rate schedule for Emergency Redispatch Service.

Comment Date: March 29, 2004.

3. Exelon New Boston, LLC

[Docket No. ER04-344-001]

Take notice that on March 8, 2004, Exelon New Boston, LLC (Exelon New Boston) tendered for filing the Second Amended Reliability Must Run Agreement by and among Exelon New Boston LLC, Exelon New England Holdings, LLC and ISO New England, Inc., Exelon New Boston Second Revised Rate Schedule FERC No. 3, to comply with the Commission's February 27, 2004, Order in Docket No. ER04-344-000.

Comment Date: March 29, 2004.

4. Duke Energy Corporation

[Docket No. ER04-365-001]

Take notice that on March 9, 2004, Duke Energy Corporation (Duke), submitted for filing its Interconnection Agreement with North Carolina Electric Membership Corporation designated as Second Revised FERC Electric Rate Schedule No. 273 in conformance with Order No. 614, Designation of Electric Rate Schedule Sheets, FERC Stats. & Regs. Preambles ¶31,096 (2000) filed in compliance with the Commission Order issued February 26, 2004, in Docket No. ER04-365-000.

Comment Date: March 30, 2004.

5. California Independent System Operator Corporation

[Docket No ER04-370-002]

Take notice that, on March 9, 2004, the California Independent System Operator Corporation (ISO) submitted a revised informational filing regarding the ISO's transmission Access Charge and Wheeling rates for the East Central Area (TAC Area), effective January 1, 2004. ISO states that these changes are necessary to reflect modifications to the Transmission Revenue Balancing Account Adjustments of the Cities of Anaheim, Azusa, Banning and Riverside, California.

ISO states that it has served copies of the filing on the Public Utilities Commission of the State of California, the California Energy Commission, the California Electricity Oversight Board, the Participating Transmission Owners, and upon all parties with effective Scheduling Coordinator Service Agreements under the ISO Tariff. In addition, the ISO is posting the filing on its Web site.

Comment Date: March 29, 2004.

6. Indeck-Oswego Limited Partnership

[Docket No. ER04-493-001]

Take notice that on March 8, 2004, Indeck-Oswego Limited Partnership (Indeck-Oswego) tendered for filing an amendment to its January 29, 2004, filing in Docket No. ER04-493-000.

Comment Date: March 29, 2004.

7. Portland General Electric Company

[Docket No. ER04-604-001]

Take notice that on March 5, 2004, Portland General Electric Company (PGE) tendered for filing an amendment to their March 1, 2004, filing under PGE's FERC Electric Tariff, Original Volume No. 12. PGE states that the revisions are intended to bring their Form of Umbrella Service Agreement into conformance with current business practices.

PGE states that a copy of the filing was served upon the Oregon Public Utility Commission.

Comment Date: March 26, 2004.

8. American Electric Power Service Corporation

[Docket No. ER04-624-000]

Take notice that on March 8, 2004, American Electric Power Service Corporation (AEPSC) submitted for filing four transmission interconnection agreements on behalf of its AEP Texas Central Company and AEP Texas North Company affiliates. AEPSC states that these agreements with Rio Grande Electric Cooperative, Inc., (RGEC) Texas-New Mexico Power Company (TNMP) and the City of Brady, Texas provide for the continued interconnection of the parties systems at all of their existing points of interconnection and that no new points of interconnection are included in these agreements. AEPSC seeks an effective date of February 23, 2004, for the agreements with RGEC, January 9, 2004, for the agreement with TNMP and January 1, 2003, for the agreement with the City.

AEPSC states that it served copies of the filing on RGEC, TNMP, the City and the Public Utility Commission of Texas.

Comment Date: March 29, 2004.

9. Southern California Edison Company

[Docket No. ER04-626-000]

Take notice that on March 9, 2004, Southern California Edison Company (SCE) tendered for filing a Letter Agreement between SCE and the Blythe Energy, LLC (Blythe Energy). SCE states that the purpose of the Letter Agreement is to provide an interim arrangement pursuant to which SCE will commence the required biological and cultural studies and certain other tasks required to prepare an application for a Certificate of Public Convenience and Necessity from the California Public Utilities Commission in anticipation of constructing, at Blythe Energy's request a 230 kV transmission line from Western Area Power Administration's Buck Blvd. Substation to a new 500-230-161 kV Substation (Midpoint Substation) to be located adjacent to or under SCE's existing Palo Verde-Devers transmission line.

SCE states that copies of this filing were served upon the Public Utilities Commission of the State of California and Blythe Energy.

Comment Date: March 30, 2004.

10. MidAmerican Energy Company

[Docket No. ER04-627-000]

Take notice that on March 9, 2004, MidAmerican Energy Company (MidAmerican), tendered for filing with the Commission a Transmission Operating Agreement between MidAmerican Energy Company and Nebraska Public Power District, which incorporates Amendment No. 2 to the Agreement dated December 31, 2003. MidAmerican requests an effective date of December 31, 2003, for this Agreement, however MidAmerican states that the revisions will not be implemented until January 1, 2005.

MidAmerican states that it has served a copy of the filing on the Iowa Utilities Board, the Illinois Commerce Commission and the South Dakota Public Utilities Commission.

Comment Date: March 30, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-634 Filed 3-18-04; 8:45 am]

BILLING CODE 6717-01-P